DEPARTMENT OF STATE

[Public Notice No. 3746]

Shipping Coordinating Committee; Subcommittee on Ocean Dumping; Notice of Meeting

The Shipping Coordinating Committee will hold an open meeting on October 16, 2001, from 1:30 p.m. to 3:30 p.m. to obtain public comment on the issues to be addressed at the October 22-26, 2001, Twenty-third Consultative Meeting of Contracting Parties to the London Convention, which is the global international treaty regulating ocean dumping. The meeting will also review the results of the Twenty-fourth Scientific Group Meeting of the London Convention held in May 2001.

The meeting will be held at the Environmental Protection Agency offices located at the Fairchild Building, 499 South Capitol Street SW., Washington, DC 20003, Room 809. Interested members of the public are invited to attend, up to the capacity of the room. For further information, please contact Mr. David Redford, Chief, Marine Pollution Control Branch, telephone (202) 260-1952.

Dated: September 19, 2001.
Stephen M. Miller,
Executive Secretary, Shipping Coordinating Committee, U.S. Department of State.

[FR Doc. 01-24190 Filed 9-26-01; 8:45 am]

BILLING CODE 4710-07-P